DEPARTMENT OF THE TREASURY

Internal Revenue Service

Information Reporting Program Advisory Committee; Renewal of Charter

AGENCY: Internal Revenue Service (IRS), Treasury.

ACTION: Notice.

SUMMARY: The Charter for the Information Reporting Program Advisory Committee will renew for a two-year period beginning November 2, 2007.

FOR FURTHER INFORMATION CONTACT: Ms. Caryl Grant, National Public Liaison, 202-927-3641 (not a toll-free number).

SUPPLEMENTARY INFORMATION: Notice is hereby given under section 10(a)(2) of the Federal Advisory Committee Act, 5 U.S.C. App. (1988), and with the approval of the Secretary of the Treasury to announce the renewal of the Information Reporting Program Advisory Committee (IRPAC). The primary purpose of the Advisory Committee is to provide an organized public forum for discussion of relevant information reporting issues of mutual concern as between Internal Revenue Service (“IRS”) officials and representatives of the public. Advisory committee members convey the public's perception of IRS activities, advise with respect to specific information reporting administration issues, provide constructive observations regarding current or proposed IRS policies, programs, and procedures, and propose significant improvements in information reporting operations and the Information Reporting Program. Members are comprised of a diverse group of dedicated and talented professionals who bring substantial disparate experience and backgrounds to the Committee activities. Membership is balanced to include representation from the taxpaying public, the tax professional community, small and large businesses, state tax administrators, academics, preparers, and the payroll community.

Dated: October 30, 2007.
Cynthia A. Vanderpool,
Branch Chief, National Public Liaison.

[FR Doc. E7-21764 Filed 11-5-07; 8:45 am]

BILLING CODE 4830-01-P